INTERNATIONAL TRADE COMMISSION

[Investigation Nos. 731-TA-1353 and 1356 (Final)]

Carbon and Certain Alloy Steel Wire Rod From South Africa and Ukraine; Supplemental Schedule for the Subject Investigations

AGENCY: United States International Trade Commission.

ACTION: Notice.

APPLICABLE DATE: January 30, 2018.

FOR FURTHER INFORMATION CONTACT: Douglas Corkran (202-205-3057), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 5, 2017, the Commission established a general schedule for the conduct of the final phase of its investigations on carbon and certain alloy steel wire rod,¹ following preliminary determinations by the U.S. Department of Commerce (“Commerce”) that imports of the subject wire rod were subsidized by the governments of Italy and Turkey. To date, Commerce has issued final affirmative determinations with respect to the subject wire rod from (1) Belarus, the Russian Federation, and the United Arab Emirates ² and most recently (2) South Africa ³ and Ukraine.⁴ The Commission, therefore, is issuing a supplemental schedule for its investigations on imports of carbon and certain alloy steel wire rod from South Africa and Ukraine.

¹ Wire Rod From Belarus, Italy, Korea, Russia, South Africa, Spain, Turkey, Ukraine, the United Arab Emirates, and the United Kingdom; Scheduling of the Final Phase of Countervailing Duty and Antidumping Duty Investigations, 82 FR 44001, September 20, 2017.

² Certain Carbon and Alloy Steel Wire Rod From Belarus, the Russian Federation, and the United Arab Emirates: Affirmative Final Determinations of Sales at Less Than Fair Value and Partial Affirmative Finding of Critical Circumstances, 82 FR 56214, November 28, 2017.

³ Carbon and Alloy Steel Wire Rod From the Republic of South Africa: Affirmative Final Determination of Sales at Less Than Fair Value and Affirmative Finding of Critical Circumstances, 83 FR 2141, January 16, 2018.

⁴ Carbon and Alloy Steel Wire Rod From Ukraine: Affirmative Final Determination of Sales at Less Than Fair Value, 83 FR 2135, January 16, 2018.

The Commission's supplemental schedule is as follows: The deadline for filing supplemental party comments on Commerce's final determinations is February 2, 2018; the staff report in the final phase of these investigations will be placed in the nonpublic record on February 9, 2018; and a public version will be issued thereafter.

Supplemental party comments may address only Commerce's final determinations regarding of carbon and certain alloy steel wire rod from South Africa and Ukraine. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: January 31, 2018.
Lisa R. Barton,
Secretary to the Commission.

[FR Doc. 2018-02233 Filed 2-2-18; 8:45 am]

BILLING CODE 7020-02-P